FEDERAL COMMUNICATIONS COMMISSION

Open Commission Meeting

June 17, 2016.

The Federal Communications Commission will hold an open meeting on the subjects listed below on Friday, June 24, 2016, which is scheduled to commence at 10:30 a.m. in Room TW-C305, at 445 12th Street SW., Washington, DC.

Item No. | Bureau | Subject
1 | International | Title: Process Reform for Executive Branch Review of Certain FCC Applications and Petitions Involving Foreign Ownership (IB Docket No. 16-155). Summary: The Commission will consider a document that seeks comments on changes to streamline and increase the transparency of the Executive Branch review of applications and petitions for national security, law enforcement, foreign policy and trade policy concerns.
2 | Public Safety & Homeland Security | Title: Amendment of the Emergency Alert System (PS Docket No. 15-94). Summary: The Commission will consider a document that would revise the Emergency Alert System by adding new event codes covering extreme high winds and storm surges caused by Category 3 (and greater) hurricanes.
3 | Public Safety & Homeland Security and International | Title: Improving Outage Reporting for Submarine Cables and Enhanced Submarine Cable Outage Data (GN Docket No. 15-206). Summary: The Commission will consider a Report and Order to require submarine cable licensees to report communications network outages to the FCC.

* * * * *

Consent Agenda

The Commission will consider the following subjects listed below as a consent agenda and these items will not be presented individually:

1 | Media | Title: The Los Angeles Social Justice Radio Project, Application for a Permit to Construct a New Low Power FM Station at Los Angeles, California. Summary: The Commission will consider a Memorandum Opinion and Order concerning the dismissal of an application to construct a new low power FM station in Los Angeles, California.
2 | Media | Title: LPFM MX Group 37. Summary: The Commission will consider a Memorandum Opinion and Order concerning the LPFM MX Group 37 (San Francisco, CA) from the 2013 LPFM filing window.
3 | Media | Title: Comparative Consideration of 3 Groups of Mutually Exclusive Applications for Permits to Construct New Noncommercial Educational FM Stations. Summary: The Commission will consider a Memorandum Opinion and Order concerning three petitions for reconsideration for permits to construct new NCE FM stations.
4 | Media | Title: Kingdom of God, Inc., Former Licensee of Deleted Class A Television Station DWKOG-LP, Indianapolis, IN. Summary: The Commission will consider a Memorandum Opinion and Order concerning the denial of a Petition for Reconsideration of the cancellation of the Station's license and digital construction permit, deletion of its call-sign, and dismissal of pending applications.
5 | Media | Title: Royce International Broadcasting Company, Assignor, and Entercom Communications Corp. (Assignee), Application for Assignment of License of Station KUDL(FM) (formerly KWOD), Sacramento, California. Summary: The Commission will consider a Memorandum Opinion and Order concerning the Media Bureau's dismissal of a Petition for Review.
6 | Media | Title: Gwendolyn May, Former Permittee of Deleted Low Power Television Station DK15CC, San Antonio, TX. Summary: The Commission will consider a Memorandum Opinion and Order concerning the denial of a Petition for Reconsideration regarding the rescission of the Video Division's grant of for application for assignment of a construction permit.
7 | Media | Title: R&F Broadcasting, Inc. Licensee of Station WRFB(TV), Carolina, Puerto Rico. Summary: The Commission will consider an Order adopting a Consent Decree which resolves issues regarding potential violations of the Commission's rules and grants the license renewal application of WRFB(TV).

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2016-15449 Filed 6-30-16; 8:45 am]

BILLING CODE 6712-01-P